DEPARTMENT OF TRANSPORTATION

Federal Aviation Administration

14 CFR Part 39

[Docket No. 2001-SW-32-AD; Amendment 39-12509; AD 2001-23-11]

RIN 2120-AA64

Airworthiness Directives; Eurocopter France Model EC 155B Helicopters

AGENCY: Federal Aviation Administration, DOT.

ACTION: Final rule; request for comments.

SUMMARY: This amendment supersedes an airworthiness directive (AD) for Eurocopter France Model EC 155B helicopters that currently requires, before each flight, visually checking each sliding door to ensure that each door roller is inside its rail. This amendment requires modifying the cabin sliding door rails and replacing the roller fitting. This amendment is prompted by the development of a modification that mechanically restrains the roller within its rail. The actions specified by this AD are intended to prevent in-flight loss of a cabin sliding door, impact with the main rotor or fenestron, and subsequent loss of control of the helicopter.

DATES: Effective December 11, 2001.

The incorporation by reference of certain publications listed in the regulations is approved by the Director of the Federal Register as of December 11, 2001.

Comments for inclusion in the Rules Docket must be received on or before January 25, 2002.

ADDRESSES: Submit comments in triplicate to the Federal Aviation Administration (FAA), Office of the Regional Counsel, Southwest Region, Attention: Rules Docket No. 2001-SW-32-AD, 2601 Meacham Blvd., Room 663, Fort Worth, Texas 76137. You may also send comments electronically to the Rules Docket at the following address: 9-asw-adcomments@faa.gov.

The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas 76137; or at the Office of the Federal Register, 800 North Capitol Street, NW., suite 700, Washington, DC.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION: On June 12, 2001, the FAA issued AD 2001-13-04, Amendment 39-12284 (66 FR 34103), to require, before each flight, visually checking the door rails of the sliding cabin door to ensure that each roller is inside its rail and revised the Limitations section of the Rotorcraft Flight Manual (RFM) to prohibit opening and closing either cabin sliding door in flight. That action was prompted by the loss of a cabin sliding door in flight. That condition, if not corrected, could result in loss of a cabin sliding door, impact with the main rotor or fenestron, and subsequent loss of control of the helicopter.

The manufacturer has introduced a modification to the cabin sliding door that mechanically restrains the roller within its rail. However, sufficient information about this modification was not received by the FAA in time to be incorporated into AD 2001-13-04.

The Direction Generale De L'Aviation Civile (DGAC), the airworthiness authority for France, notified the FAA that an unsafe condition may exist on Eurocopter France Model EC 155B helicopters. The DGAC advises of an in-flight loss of a cabin sliding door.

Eurocopter France has issued Alert Service Bulletin No. 52A004, dated March 15, 2001 (ASB). The ASB specifies modifying the left-hand and right-hand cabin sliding door fitting roller attachment and upper rail. The DGAC classified this ASB as mandatory and issued AD No. 2001-058-001(A) R1, dated April 18, 2001, to ensure the continued airworthiness of these helicopters in France.

This helicopter model is manufactured in France and is type certificated for operation in the United States under the provisions of 14 CFR 21.29 and the applicable bilateral agreement. Pursuant to this bilateral agreement, the DGAC has kept the FAA informed of the situation described above. The FAA has examined the findings of the DGAC, reviewed all available information, and determined that AD action is necessary for products of this type design that are certificated for operation in the United States.

Since we have identified an unsafe condition that is likely to exist or develop on other Eurocopter France Model EC 155B helicopters of the same type design registered in the United States, this AD supersedes AD 2001-13-04 to require, before further flight, modifying the cabin sliding door rails and replacing the roller fitting. The actions must be accomplished in accordance with the service bulletin described previously. The short compliance time involved is required because the previously described critical unsafe condition can adversely affect the controllability and structural integrity of the helicopter. Therefore, modifying the cabin sliding door rails and replacing the roller fitting are required before further flight, and this AD must be issued immediately.

Since a situation exists that requires the immediate adoption of this regulation, it is found that notice and opportunity for prior public comment hereon are impracticable, and that good cause exists for making this amendment effective in less than 30 days.

The FAA estimates that 2 helicopters will be affected by this AD, that it will take approximately 20 work hours to modify the sliding cabin door, and that the average labor rate is $60 per work hour. Required parts will cost approximately $800 per helicopter. Based on these figures, the total cost impact of the AD on U.S. operators is estimated to be $4,000.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket No. 2001-SW-32-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-12284 (66 FR 34103, June 27, 2001), and by adding a new airworthiness directive (AD), Amendment 39-12509, to read as follows:

2001-13-04 Eurocopter France: Amendment 39-12509. Docket No. 2001-SW-32-AD. Supersedes AD 2001-13-04, Amendment 39-12284, Docket No. 2001-SW-08-AD.

Applicability: Model EC 155B helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Required before further flight, unless accomplished previously.

To prevent in-flight loss of a cabin sliding door, impact with the main rotor or fenestron, and subsequent loss of control of the helicopter, accomplish the following:

(a) Modify the left-hand and right-hand cabin sliding door rails and replace the roller fitting in accordance with the Accomplishment Instructions, paragraph 2, of Eurocopter France Alert Service Bulletin No. 52A004, dated March 15, 2001.

(b) After accomplishing paragraph (a) of this AD, remove from the Limitations section of the Rotorcraft Flight Manual either the statements prohibiting the opening and closing of a cabin sliding door in flight and, before each flight with an open cabin sliding door, visually checking the open door to ensure each door roller is inside its rail or the copy of AD 2001-13-04, whichever is appropriate.

(c) An alternative method of compliance or adjustment of the compliance time that provides an acceptable level of safety may be used if approved by the Manager, Regulations Group, Rotorcraft Directorate, FAA. Operators shall submit their requests through an FAA Principal Maintenance Inspector, who may concur or comment, and then send it to the Manager, Regulations Group.

Note 2: Information concerning the existence of approved alternative methods of compliance with this AD, if any, may be obtained from the Regulations Group.

(d) Special flight permits may be issued in accordance with 14 CFR 21.197 and 21.199 to operate the helicopter to a location where the requirements of this AD can be accomplished.

(e) The modification shall be done in accordance with the Accomplishment Instructions, paragraph 2, of Eurocopter France Alert Service Bulletin No. 52A004, dated March 15, 2001. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(f) This amendment becomes effective on December 11, 2001.

Note 3: The subject of this AD is addressed in Direction Generale De L'Aviation Civile (France) AD No. 2001-058-001(A) R1, dated April 18, 2001.

Issued in Fort Worth, Texas, on November 13, 2001.
David A. Downey,
Manager, Rotorcraft Directorate, Aircraft Certification Service.

[FR Doc. 01-29188 Filed 11-23-01; 8:45 am]

BILLING CODE 4910-13-U